DEPARTMENT OF LABOR

Employment and Training Administration

[NAFTA—05080]

Great Western International, Portland, OR; Amended Certification Regarding Eligibility To Apply for NAFTA—Transitional Adjustment Assistance

In accordance with section 250(A), subchapter D, chapter 2, Title II, of the Trade Act of 1974 (19 U.S.C. 2273), the Department of Labor issued a Certification for NAFTA Transitional Adjustment Assistance on October 16, 2001, applicable to workers of Great Western International, Portland, Oregon. The notice was published in the Federal Register on October 30, 2001 (66 FR 54784).

At the request of a petitioner, the Department reviewed the certification for workers of the subject firm. The workers were engaged in the production of industrial use chemicals such as caustic soda and sulfuric acid until the company shifted production to Canada in July 2001.

New information shows that a worker will be retained at the subject firm beyond the October 16, 2003 expiration date of the certification. This employee is currently performing the closing down functions until her termination no later than December 31, 2003.

Based on these findings, the Department is amending the certification to extend the October 16, 2003 expiration date for NAFTA-05080 to read December 31, 2003.

The intent of the Department's certification is to include all workers of Great Western International who were adversely affected by a shift of production of sulfuric acid and caustic soda to Canada.

The amended notice applicable to NAFTA—05080 is hereby issued as follows:

All workers of Great Western International, Portland, Oregon who became totally or partially separated from employment on or after July 3, 2000, through December 31, 2003, are eligible to apply for NAFTA-TAA under section 250 of the Trade Act of 1974.

Signed at Washington, DC this 8th day of October, 2003.
Richard Church,
Certifying Officer, Division of Trade Adjustment Assistance.

[FR Doc. 03-29554 Filed 11-25-03; 8:45 am]

BILLING CODE 4510-30-P